DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of P.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than January 21, 2002.

Also, interested persons are invited to submit written comments regarding the subject matter of the petitions to the Director of DTAA at the address shown below not later than January 21, 2002.

Petitions filed with the Governors are available for inspection at the Office of the Director, DTAA, ETA, DOL, Room C-5311, 200 Constitution Avenue, N.W. Washington, DC 20210.

Signed at Washington, DC, this 2nd day of January, 2002.
Edward A. Tomchick,
Director, Division of Trade Adjustment Assistance.

APPENDIX
Subject firm | Location | Date received at Governor's office | Petition No. | Articles produced
A.O. Smith Electrical Products (Co.) | Scottsville, KY | 12/11/2001 | NAFTA-5, 634 | Stator & coil electric motor.
Sumitomo Electric Wiring (Co.) | Morgantown, KY | 12/11/2001 | NAFTA-5, 635 | Electric wiring harnesses.
Bayer Clothing Group (UNITE) | Clearfield, PA | 12/10/2001 | NAFTA-5, 636 | Men's tailored suits and sportscoats.
Daisbowa America (Wkrs) | Port Angeles, WA | 12/10/2001 | NAFTA-5, 637 | Woods clips.
Scientific Molding (Wkrs) | Brownsville, TX | 12/12/2001 | NAFTA-5, 638 | Assembled tools and molding.
Acme Steel (Wkrs) | Riverdale, IL | 12/07/2001 | NAFTA-5, 639 | Hot rolled steel.
VF Jeanswear (Co.) | Russellville, AL | 12/12/2001 | NAFTA-5, 640 | Jeans.
VDO North America LLC (Co.) | Winchester, VA | 12/18/2001 | NAFTA-5, 641 | Fuel systems for cars.
Imperial Home Decor Group (UAW) | Adams, MA | 12/11/2001 | NAFTA-5, 642 | Wallpaper.
A.O. Smith Electrical Products (Co.) | Lexington, TN | 12/10/2001 | NAFTA-5, 643 | Electric motors.
Bose Corporation (Wkrs) | Hillsdale, MI | 12/14/2001 | NAFTA-5, 644 | Automotive loudspeaker.
Eurotherm Action (Co.) | San Diego, CA | 10/17/2001 | NAFTA-5, 645 | Signal conditioners.
Smiley Hats (Co.) | Sparks, NV | 11/09/2001 | NAFTA-5, 646 | Hats, mittens, scarfs, blankets.
Active Transportation (IBT) | Portland, OR | 12/13/2001 | NAFTA-5, 647 | Heavy duty trucks.
Harper Wyman (Wkrs) | Princeton, IL | 12/14/2001 | NAFTA-5, 648 | Engineering services.
IEC Electronics (Wkrs) | Newark, NY | 10/25/2001 | NAFTA-5, 649 | Communications equipment.
Holland Binkley (Co.) | Dayton, OH | 12/17/2001 | NAFTA-5, 650 | Semi trailer axles.
Bourns (Co.) | Logan, UT | 12/17/2001 | NAFTA-5, 651 | Electronic components.
Magnequench International (UAW) | Anderson, ID | 12/13/2001 | NAFTA-5, 652 | Permanent magnets & magnetic powders.
Empire Iron Mining Partnership—Tilden (Co.) | Cleveland, OH | 12/12/2001 | NAFTA-5, 653 | Steel.
Hayes Lemmerz International (Wkrs) | Petersburg, MI | 11/17/2001 | NAFTA-5, 654 | Plastic intake manfolds.
Kennametal (Co.) | Pine Bluff, AR | 12/12/2001 | NAFTA-5, 655 | Drill.
Eaton Corporation—Actuator Esensor (Wkrs) | Sanford, NC | 12/17/2001 | NAFTA-5, 656 | Right angle thermal expansion valve.
USNR (Wkrs) | Woodland, WA | 12/17/2001 | NAFTA-5, 657 | Saw mill equipment and spare parts.
Perceptron (Co.) | Lake Oswego, OR | 12/11/2001 | NAFTA-5, 658 | Sensor and robotic equipment.
Liz Claiborne (UNITE) | Mt. Pocono, PA | 12/19/2001 | NAFTA-5, 659 | Men's and women's apparel.
Vanity Fair Intimates (Co.) | Monroeville, AL | 12/20/2001 | NAFTA-5, 660 | Women's intimate apparel.
Tree Machine Tools (IAMAW) | Franklin, WI | 12/19/2001 | NAFTA-5, 661 | Computer controlled machining centers.
Robert Mitchell—Douglas Brothers (Co.) | Portland, ME | 12/19/2001 | NAFTA-5, 662 | Stainless steel pipe and fitting.
Exide Technologies (UAW) | Shreveport, LA | 12/19/2001 | NAFTA-5, 663 | 12 volt automotive batteries.
Neville Chemical (USWA) | Pittsburgh, PA | 12/19/2001 | NAFTA-5, 664 | Hydro carbon resins for printing ink.
JBI, LP (Co.) | Osseo, WI | 12/19/2001 | NAFTA-5, 665 | Parts washers and ovens.
Dana Corporation—Spicer Mfg. (Wkrs) | Pottstown, PA | 12/19/2001 | NAFTA-5, 666 | Slip yokes, flange yokes etc.
Accuride International (Co.) | South Bend, IN | 12/18/2001 | NAFTA-5, 667 | Ball bearing linear slides.
Parker Hannifin (Wkrs) | Eaton, OH | 12/17/2001 | NAFTA-5, 668 | Tube fittings.
Midcom, Inc. (Co.) | Watertown, SD | 12/18/2001 | NAFTA-5, 669 | Transformer for telecommunications.
Greenwood Mills (Co.) | Greenwood, SC | 12/20/2001 | NAFTA-5, 670 | Textiles.
Beta Steel (Co.) | Portage, IN | 12/26/2001 | NAFTA-5, 671 | Steel, hot rolled coils.
Pacific Scientific Instruments (Wkrs) | Crants Pass, OR | 12/19/2001 | NAFTA-5, 672 | Particle counters and software.
Phoenix Gold International (Wkrs) | Portland, OR | 12/19/2001 | NAFTA-5, 673 | Circuit board.
Loren Casting (Wkrs) | Hollywood, FL | 12/20/2001 | NAFTA-5, 674 | Wax carving and wax stone setting.
STS Apparel (Wkrs) | Hialeah, FL | 12/18/2001 | NAFTA-5, 675 | Embroidery for garments.
Nortel Networks (Wkrs) | Boca Raton, FL | 12/19/2001 | NAFTA-5, 676 | Optical networking systems.
Swift Spinning Mills (Co.) | Columbus, GA | 12/19/2001 | NAFTA-5, 677 | Denim.
Swift Spinning Mills (Co.) | Columbus, GA | 12/19/2001 | NAFTA-5, 678 | Spun cotton yarn.
Biokyowa (Co.) | Cape Girardeau, MO | 12/21/2001 | NAFTA-5, 679 | Lysine amino acid feed supplement.
F.C. Mayer Packaging (Wkrs) | St. Louis, MO | 12/21/2001 | NAFTA-5, 680 | Shoe cartons.
VF Jeanswear (Wkrs) | Springfield, MO | 12/21/2001 | NAFTA-5, 681 | Jeans and casual wear.
Parallax Power Components (Co.) | Goodland, IN | 12/20/2001 | NAFTA-5, 682 | Transformers.
Multi Products (Wkrs) | Erie, PA | 12/27/2001 | NAFTA-5, 683 | Custom plastic injection molds.
Kraft Foods North America (Wkrs) | Allentown, PA | 12/27/2001 | NAFTA-5, 684 | Barbecue sauce and salad dressing.

[FR Doc. 02-716 Filed 1-10-02; 8:45 am]

BILLING CODE 4510-30-M